DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socio-economics of Whale Watching in the Channel Islands Region: Survey of Whale Watching Passengers.

OMB Control Number: 0648-xxxx.

Form Number(s): None.

Type of Request: Regular (request for a new information collection).

Number of Respondents: 1,560.

Average Hours per Response: On-site survey, 20 minutes; mail-back survey, 15 minutes.

Burden Hours: 654.

Needs and Uses: This request is for a new information collection.

NOAA is sponsoring a class project at the Bren School of Management & Science at the University of California, Santa Barbara to estimate the market and non-market economic values associated with the reduction in risk of whale strikes by different scenarios of changes in traffic lanes and/or vessel speeds for major commercial vessels operating in the region of southern California where the Channel Islands National Marine Sanctuary is located. Surveys will be conducted of the passengers aboard the for hire operation boats to obtain their market and non-market economic use values for the reduction in the risk of whale strikes. Additional information will be obtained on importance-satisfaction ratings of key natural resource attributes, facilities and services along with demographic profiles of passengers. This survey is a companion piece to a survey of the for-hire operators, approved under OMB Control No. 0648-0717, approved on 7/1/2015.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 11, 2015.
Sarah Brabson,
NOAA PRA Clearance Officer.

[FR Doc. 2015-20083 Filed 8-13-15; 8:45 am]

BILLING CODE 3510-NK-P